ENVIRONMENTAL PROTECTION AGENCY

[EPA-R07-OAR-2016-0779; FRL-9960-71-Region 7]

Adequacy Determination for the St. Louis Area 2008 8-Hour Ozone Redesignation Request and Maintenance State Implementation Plan, Motor Vehicle Emissions Budgets for Transportation Conformity Purposes; State of Missouri

AGENCY: Environmental Protection Agency (EPA).

ACTION: Notice of adequacy determination.

SUMMARY: The Environmental Protection Agency (EPA) is notifying the public that the St. Louis area 2008 8-hour ozone redesignation request and maintenance plan motor vehicle emission budgets (MVEBs) for volatile organic compounds (VOCs) and nitrogen oxides (NOX) are adequate for transportation conformity purposes. As a result, these budgets must be used by the State of Missouri for future transportation conformity determinations for the St. Louis area.

DATES: This document is effective April 24, 2017.

FOR FURTHER INFORMATION CONTACT: Heather Hamilton, at (913) 551-7039, by email at Hamilton.heather@epa.gov, or by mail at U.S. Environmental Protection Agency, Air Planning and Development Branch, 11201 Renner Boulevard, Lenexa, Kansas 66219.

SUPPLEMENTARY INFORMATION: Throughout this document “we,” “us,” or “our” refer to EPA. The word “budget(s)” refers to the motor vehicle emission budgets (MVEBs) for volatile organic compounds and nitrogen oxides. For the purposes of this document, “SIP” refers to the St. Louis Area 2008 8-Hour Ozone Redesignation Request and Maintenance State Implementation Plan, submitted by Missouri Department of Natural Resources to EPA as a SIP revision on September 12, 2016.

This document is an announcement of a finding that EPA has already made. EPA Region 7 sent a letter to Missouri Department of Natural Resources on December 21, 2016, stating that the MVEBs contained in the Redesignation Request and Maintenance Plan are adequate for transportation conformity purposes. As a result of EPA's finding, the State of Missouri must use the MVEBs from the September 12, 2016, Redesignation Request and Maintenance Plan or future transportation conformity determinations for the St. Louis area. The finding is available at EPA's conformity Web site: https://www.epa.gov/state-and-local-transportation.

Transportation conformity is required by section 176(c) of the Clean Air Act, as amended in 1990. EPA's conformity rule requires that transportation plans, programs and projects conform to state air quality implementation plans and establishes the criteria and procedure for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). Please note that an adequacy review is separate from EPA's completeness review, and it should not be used to prejudge EPA's ultimate approval of the SIP. EPA plans to take action on the SIP at a later date. We have described our process for determining the adequacy of submitted SIP budgets in 40 CFR 93.118(f), and have followed this rule in making our adequacy determination.

Authority: 42 U.S.C. 7401-7671q.

Dated: March 20, 2017.
Edward H. Chu,
Acting Regional Administrator, Region 7.

[FR Doc. 2017-07026 Filed 4-7-17; 8:45 am]

BILLING CODE 6560-50-P